NATIONAL AERONAUTICS AND SPACE ADMINISTRATION

[Notice (08-089)]

Government-Owned Inventions, Available for Licensing

AGENCY: National Aeronautics and Space Administration.

ACTION: Notice of availability of inventions for licensing.

SUMMARY: Patent applications on the inventions listed below assigned to the National Aeronautics and Space Administration, have been filed in the United States Patent and Trademark Office, and are available for licensing.

DATES: November 12, 2008.

FOR FURTHER INFORMATION CONTACT: Mark W. Homer, Patent Counsel, NASA Management Office—JPL, 4800 Oak Grove Drive, Mail Stop 180-200, Pasadena, CA 91109; telephone (818) 354-7770.

NASA Case No. DRC-008-023: Improved Process for Using Surface Strain Measurements to Obtain Operational Loads for Complex Structures;

NASA Case No. NPO-45462-1: System and Method for Critical Coupling to an Optical Resonator;

Dated: November 4, 2008.
Michael C. Wholley,
General Counsel.

[FR Doc. E8-26820 Filed 11-10-08; 8:45 am]

BILLING CODE 7510-13-P